DEPARTMENT OF THE INTERIOR

Bureau of Land Management

[LLWY920000 L14300000.ET0000; WYW 179968]

Notice of Proposed Withdrawal of Public Land for the Buffalo Bill Dam and Reservoir Modification Project Recreation Site and Opportunity for a Public Meeting; WY

AGENCY: Bureau of Land Management, Interior.

ACTION: Notice.

SUMMARY: The Bureau of Reclamation (BR) has filed an application with the Bureau of Land Management (BLM) requesting the Assistant Secretary of the Interior for Policy, Management and Budget to withdraw 32.56 acres of public land from settlement, sale, location, and entry under the general land laws, including the United States mining laws, for protection of recreational facilities constructed in connection with the Buffalo Bill Dam and Reservoir Modification Project near Cody, Wyoming. This notice gives the public an opportunity to comment on the application and to request a public meeting.

DATES: Comments must be received on or before January 16, 2013.

ADDRESSES: Comments and meeting requests should be sent to the BLM Wyoming State Director, 5353 Yellowstone Road, Cheyenne, Wyoming 82009.

FOR FURTHER INFORMATION CONTACT: Diane Schurman, BLM Wyoming State Office, telephone: 307-775-6189; email: Dschurma@blm.gov or at the above address. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Assistant Secretary for Policy, Management and Budget proposes to withdraw, subject to valid existing rights, the following described public land from settlement, sale, location, and entry under the general land laws, including the United States mining laws, but not from leasing under the mineral leasing laws, for a period of 20 years to protect the capital investments of a developed recreation site in the Buffalo Bill Dam and Reservoir Modification Project area:

Sixth Principal Meridian

T. 52 N., R. 104 W.,

Sec. 14, lots 10, 11, 26, and 27;

Sec. 15, lots 21, 22, and 23.

The area described contains 32.56 acres in Park County.

The Assistant Secretary for Policy, Management and Budget approved the BR's petition/application; therefore, it constitutes a withdrawal proposal.

The purpose of the proposed withdrawal is to protect the capital investments expended for the recreational facilities to be administered pursuant to a joint-venture agreement by the Wyoming Recreation Commission for the BR. This recreational site is part of a Master Plan for the Buffalo Bill State Park and the Buffalo Bill Dam and Reservoir Modification Project.

The use of a right-of-way, interagency or cooperative agreement, or surface management under the 43 CFR 3809 regulations would not adequately constrain nondiscretionary uses which could result in permanent loss of significant values of the recreation site. There are no suitable alternative sites since the lands described here contain the resource values that need protection.

No water rights would be needed to fulfill the purpose of the requested withdrawal.

Records relating to the application may be examined by contacting either Diane Schurman at the above address or by calling 307-775-6189 or Lyle Myler, Bureau of Reclamation, Wyoming Area Office, Mills, Wyoming, or by calling 307-261-5676.

For a period until January 16, 2013, all persons who wish to submit comments, suggestions, or objections in connection with the proposed withdrawal application may present their views in writing to the BLM Wyoming State Director at the address or email address noted above.

Comments including names and street addresses of respondents will be available for public review at the BLM Wyoming State office, during regular business hours 8:00 a.m. to 4:30 p.m., Monday through Friday, except holidays. Before including your address, phone number, email address, or other personal identifying information in your comment, you should be aware that your entire comment—including your personal identifying information—may be made publicly available at any time. While you may ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

For a period until October 20, 2014, the land will be segregated as specified above unless the application is denied or canceled or the withdrawal is approved prior to that date. Licenses, permits, cooperative agreements, or discretionary land use authorizations of a temporary nature which would not impact the site may be allowed with the approval of an authorized officer of the BLM during the application processing period.

Notice is hereby given that an opportunity for a public meeting is afforded in connection with the proposed withdrawal. All interested persons who desire a public meeting for the purpose of being heard on the proposed withdrawal must submit a written request to the BLM Wyoming State Director no later than January 16, 2013. If the authorized officer determines that a public meeting will be held, a notice of the time and place will be published in the Federal Register and a local newspaper at least 30 days before the scheduled date of the meeting.

This application will be processed in accordance with the regulations set forth in 43 CFR 2310.1-2.

Donald A. Simpson,
State Director.

[FR Doc. 2012-25592 Filed 10-17-12; 8:45 am]

BILLING CODE 4310-MN-P